DEPARTMENT OF THE INTERIOR

Fish and Wildlife Service

[FWS-HQ-MB-2023-N091; FXMB123109WEBB0-234-FF09M26000; OMB Control Number 1018-0019]

Agency Information Collection Activities; Submission to the Office of Management and Budget; North American Woodcock Singing Ground Survey

AGENCY: Fish and Wildlife Service, Interior.

ACTION: Notice of information collection; comment period reopening.

SUMMARY: In accordance with the Paperwork Reduction Act of 1995, we, the U.S. Fish and Wildlife Service (Service), are proposing to renew an information collection with revisions.

DATES: Interested persons are invited to submit comments on or before December 20, 2023.

ADDRESSES: Written comments and recommendations for the proposed information collection should be sent within 30 days of publication of this notice to https://www.reginfo.gov/public/do/PRAMain. Find this particular information collection by selecting “Currently under Review—Open for Public Comments” or by using the search function. Please provide a copy of your comments to the Service Information Collection Clearance Officer, U.S. Fish and Wildlife Service, MS: PRB (JAO/3W), 5275 Leesburg Pike, Falls Church, VA 22041-3803 (mail); or by email to Info_Coll@fws.gov. Please reference “1018-0019” in the subject line of your comments.

FOR FURTHER INFORMATION CONTACT: Madonna L. Baucum, Service Information Collection Clearance Officer, by email at Info_Coll@fws.gov, or by telephone at (703) 358-2503. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: In accordance with the Paperwork Reduction Act (PRA, 44 U.S.C. 3501 et seq.) and its implementing regulations at 5 CFR 1320.8(d)(1), all information collections require approval under the PRA. We may not conduct or sponsor and you are not required to respond to a collection of information unless it displays a currently valid OMB control number.

On February 28, 2023, we published in the Federal Register (88 FR 12695) a notice of our intent to request that OMB approve this information collection. In that notice, we solicited comments for 60 days, ending on May 1, 2023. In an effort to increase public awareness of, and participation in, our public commenting processes associated with information collection requests, the Service also published the Federal Register notice on Regulations.gov (Docket No. FWS-HQ-MB-2023-0003) to provide the public with an additional method to submit comments (in addition to the typical Info_Coll@fws.gov email and U.S. mail submission methods).

On August 9, 2023, we published in the Federal Register (88 FR 53902) a notice reopening the comment period to provide the public with an opportunity to comment on the proposed revisions to this information collection that we planned to submit to OMB for approval. In that second notice, we solicited comments for 60 days, ending on October 10, 2023. In an effort to increase public awareness of, and participation in, our public commenting processes associated with information collection requests, the Service also published the Federal Register notice on Regulations.gov (Docket No. FWS-HQ-MB-2023-0003) to provide the public with an additional method to submit comments (in addition to the typical U.S. mail submission method). We received one comment in response to that second notice, but it did not address the information collection requirements. Therefore, no response is required.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: The Migratory Bird Treaty Act (16 U.S.C. 703-712) designates the Department of the Interior as the primary agency responsible for managing migratory bird populations frequenting the United States and setting hunting regulations that allow for the well-being of migratory bird populations. These responsibilities dictate that we gather accurate data on various characteristics of migratory bird populations.

The North American Woodcock Singing Ground Survey is an essential part of the migratory bird management program. Federal, State, Provincial, Tribal, and local conservation agencies conduct the survey annually to provide the data necessary to determine the population status of the American woodcock. In addition, the information is vital in assessing the relative changes in the geographic distribution of the species. We use the information primarily to develop recommendations for hunting regulations. Without information on the population's status, we might promulgate hunting regulations that:

• Are not sufficiently restrictive, which could cause harm to the woodcock population, or

• Are too restrictive, which would unduly restrict recreational opportunities afforded by woodcock hunting.

State, local, Tribal, Provincial, and Federal conservation agencies, as well as other participants, use Form 3-156 to conduct annual field surveys. Instructions for completing the survey and reporting data are on the reverse of the form. Observers can scan/email, scan/upload via link, mail, or fax Form 3-156 to the Division of Migratory Bird Management, or enter the information electronically through the internet at https://migbirdapps.fws.gov/woodcock.

We collect observer information (name, telephone, email address, and mailing address) so that we can contact the observer if questions or concerns arise. Observers provide information on:

• Sky condition, temperature, wind, and precipitation.

• Stop number.

• Odometer reading.

• Time at each stop.

• Number of American Woodcock males heard peenting (calling).

• Disturbance level.

• Comments concerning the survey.

We use the information that we collect to analyze the survey data and prepare reports. Assessment of the population's status serves to guide the Service, the States, and the Canadian Government in the annual promulgation of hunting regulations.

Proposed Revisions

We will request OMB approval to revise our American Woodcock Singing-ground Survey data collection and data entry process over the 2023-2024 period. We plan to develop and implement a new mobile application, along with a new web browser data entry method. The yet-to-be-developed application will operate on portable electronic devices while conducting field surveys. The data entry feature would still be collecting data on all the same fields within the survey form.

While we still plan to administer the paper-based survey form to every observer, the observer is not required to submit the paper-based results unless the observer does not utilize the data collection mobile application in the field. Instead, data entry will occur through the application's web browser after the survey is complete. A mapping feature within the new application will allow observers to see each stop location along the route and keep track of their current location. This will assist in stop location verification efforts and help maintain a verified spatial reference for the survey.

Initially, we expect the burden time to be higher as respondents adjust to the new method to collect and enter data, and for reviewing the updated instructions and completing the training. However, once observers are trained in using the application, the estimated burden will decrease in subsequent years. With this submission, we will also clearly differentiate the burden from U.S. based submissions with those from Canada.

Title of Collection: North American Woodcock Singing Ground Survey.

OMB Control Number: 1018-0019.

Form Number: Form 3-156.

Type of Review: Revision of a currently approved collection.

Respondents/Affected Public: State, Provincial, local, and Tribal Governments.

Respondent's Obligation: Voluntary.

Frequency of Collection: Annually.

Total Estimated Annual Nonhour Burden Cost: None.

Table 1—Burden Estimates: First Year
Requirement | Average number of annual respondents | Average number of responses each | Average number of annual responses | Average completion time per response (hours) | Estimated annual burden hours *
Survey—US (App Submission) REVISED:
Government | 290 | 1 | 290 | 3.72 | 1,079
Survey—CAN (App Submission) NEW:
Foreign Gov | 100 | 1 | 100 | 3.72 | 372
Survey—US (In the Field App Collection and Submission) NEW:
Government | 291 | 1 | 291 | 3.58 | 1,042
Survey—CAN (In the Field App Collection and Submission) NEW:
Foreign Gov | 101 | 1 | 101 | 3.58 | 362
Survey—US:
Government | 2 | 1 | 2 | 1.92 | 4
Survey—CAN NEW:
Foreign Gov | 36 | 1 | 36 | 1.92 | 69
Totals: | 820 |  | 820 |  | 2,928
* Rounded.

Table 2—Burden Estimates: Subsequent Years
Requirement | Average number of annual respondents | Average number of responses each | Average number of annual responses | Average completion time per response (hours) | Estimated annual burden hours *
Survey—US (App Submission) REVISED:
Government | 290 | 1 | 290 | 2.05 | 595
Survey—CAN (App Submission) NEW:
Foreign Gov | 100 | 1 | 100 | 2.05 | 205
Survey—US (In the Field App Collection and Submission) NEW:
Government | 291 | 1 | 291 | 1.92 | 559
Survey—CAN (In the Field App Collection and Submission) NEW:
Foreign Gov | 101 | 1 | 101 | 1.92 | 194
Survey—US:
Government | 2 | 1 | 2 | 1.92 | 4
Survey—CAN NEW:
Foreign Gov | 36 | 1 | 36 | 1.92 | 69
Totals: | 820 |  | 820 |  | 1,626
* Rounded.

An agency may not conduct or sponsor and a person is not required to respond to a collection of information unless it displays a currently valid OMB control number.

The authority for this action is the Paperwork Reduction Act of 1995 (44 U.S.C. 3501 et seq.).

Madonna Baucum,
Information Collection Clearance Officer, U.S. Fish and Wildlife Service.

[FR Doc. 2023-25555 Filed 11-17-23; 8:45 am]

BILLING CODE 4333-15-P